DEPARTMENT OF COMMERCE

National Oceanic and Atmospheric Administration

50 CFR Part 660

[Docket No. 201204-0325]

RIN 0648-BL85

Magnuson-Stevens Act Provisions; Fisheries off West Coast States; Pacific Coast Groundfish Fishery; 2021-2022 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial groundfish fisheries. This action is intended to allow commercial fishing vessels to access more abundant groundfish stocks while protecting overfished and depleted stocks.

DATES: This final rule is effective October 3, 2022.

FOR FURTHER INFORMATION CONTACT: Keeley Kent, phone: 206-247-8252 or email: keeley.kent@noaa.gov.

Electronic Access

This rule is accessible via the internet at the Office of the Federal Register website at https://www.federalregister.gov. Background information and documents are available at the Pacific Fishery Management Council's website at http://www.pcouncil.org/.

SUPPLEMENTARY INFORMATION:

Background

The Pacific Coast Groundfish Fishery Management Plan (PCGFMP) and its implementing regulations at title 50 in the Code of Federal Regulations (CFR), part 660, subparts C through G, regulate fishing for over 90 species of groundfish off the coasts of Washington, Oregon, and California. The Pacific Fishery Management Council (Council) develops groundfish harvest specifications and management measures for two-year periods (i.e., a biennium). NMFS published the final rule to implement harvest specifications and management measures for the 2021-2022 biennium for most species managed under the PCGFMP on December 11, 2020 (85 FR 79880). In general, the management measures set at the start of the biennial harvest specifications cycle help the various sectors of the fishery attain, but not exceed, the catch limits for each stock. The Council, in coordination with Pacific Coast Treaty Indian Tribes and the States of Washington, Oregon, and California, recommends adjustments to the management measures during the fishing year to achieve this goal.

At its September 2022 meeting, the Council recommended modifying trip limits for limited entry (LE) and open access (OA) sablefish north of 36° N. latitude, modifying trip limits for LE and OA canary rockfish north and south of 40°10′ N. latitude, and modifying trip limits for LE and OA lingcod north of 42° N. latitude. Pacific Coast groundfish fisheries are managed using harvest specifications or limits (e.g., overfishing limits (OFL), acceptable biological catch (ABC), annual catch limits (ACL) and harvest guidelines (HG) recommended biennially by the Council and based on the best scientific information available at that time (50 CFR 660.60(b))). During development of the harvest specifications, the Council also recommends management measures (e.g., trip limits, area closures, and bag limits) that are meant to manage catch so as not to exceed the harvest specifications. The harvest specifications and management measures developed for the 2021-2022 biennium used data through the 2019 fishing year. Each of the adjustments to management measures discussed below are based on updated fisheries information that was unavailable when the analysis for the current harvest specifications was completed. As new fisheries data becomes available, adjustments to management measures are projected so as to help harvesters achieve but not exceed the harvest limits.

Sablefish

Sablefish is an important commercial species on the west coast with vessels targeting sablefish with both trawl and fixed gear (longlines and pots/traps). Sablefish is managed with an ACL for north of 36° N. lat. and an ACL for south of 36° N. lat.. The 2022 ACLs for the north and south are 6,172 mt and 2,203 mt, respectively.

At the September 2022 Council meeting, the Council's Groundfish Management Team (GMT) received requests from industry members and members of the Council's Groundfish Advisory Subpanel to examine the potential to increase sablefish trips limits for the LE and OA fisheries north of 36° N. lat.. The intent of increasing trip limits is to increase harvest opportunities for vessels targeting sablefish. To evaluate potential increases to sablefish trip limits, the GMT made model-based landings projections under current regulations and alternative sablefish trip limits, including the limits ultimately recommended by the Council, for the LEFG and OA fisheries through the remainder of the year. Table 1 shows the projected sablefish landings, the sablefish allocations, and the projected attainment percentage by fishery under both the current trip limits and the Council's recommended adjusted trip limits. These projections were based on the most recent catch information available through late August 2022. Industry did not request changes to sablefish trip limits for the LE or OA fishery south of 36° N. lat. Therefore, NMFS and the Council did not consider trip limit changes for these fisheries at this time.

Table 1—Projected Landings of Sablefish, Sablefish Allocation, and Projected Percentage of Sablefish Attained Through the end of the Year by Trip Limit and Fishery
Fishery | Trip limits | Projected landings (round weight) (mt) | Allocation (mt) | Projected percentage attained
LE North of 36° N. lat | Current: 2,400 lb/week (1,089 kg), not to exceed 4,800 lb/two months (2,177 kg) | 155-178 | 320 | 48-56
| Recommended: 4,500 lb/week (2,041 kg), not to exceed 9,000 lb/two months (4,082) | 203-246 |  | 63-77
OA North of 36° N. lat | Current: 600 lb/day (272 kg), 2,000 lb/week (907 kg), not to exceed 4,000 lb/two months (1,814 kg) | 335-371 | 527 | 64-70
| Recommended: 600 lb/day (272 kg), 4,000 lb/week (1,814 kg), not to exceed 8,000 lb/two months (3,629 kg) | 408-472 |  | 77-89

As shown in Table 1, under the current trip limits, the model predicts catches of sablefish will be at or below 56 percent, or 178 mt of the 320 mt allocation, for LE fishery north of 36° N. lat. and 70 percent, or 371 mt of the 527 mt allocation, for OA fishery north of 36° N. lat. Under the Council's recommended trip limits, sablefish attainment is projected to increase in the LE and OA fisheries north of 36° N. lat. up to 77 and 89 percent, respectively.

Trip limit increases for sablefish are intended to increase attainment of the non-trawl HG. The proposed trip limit increases do not change projected impacts to co-occurring rebuilding species compared to the impacts anticipated in the 2021-2022 harvest specifications because the projected impacts to those species assume that the entire sablefish ACL is harvested. Therefore, the Council recommended and NMFS is implementing, by modifying Tables 2 North and South to part 660, subpart E, and Tables 3 North and South to part 660, subpart F, trip limit changes for the LE sablefish fishery north of 36° N. lat. and trip limit changes for the OA sablefish fishery north of 36° N. lat. as shown above in Table 1. These changes will be implemented through the end of 2022.

Canary Rockfish

Prior to the September 2022 meeting, the GMT received a request from an OA fisherman from Northern California to increase the canary rockfish OA north of 40°10′ N. lat. trip limit to better align with the yellowtail rockfish trip limit in order to reduce regulatory discarding of canary rockfish. The 2022 coastwide ACL for canary rockfish is 1,307 mt.

To evaluate potential increases to canary rockfish trip limits, the GMT made model-based landings projections under current regulations and alternative trip limits, including the limits ultimately recommended by the Council, for the LE and OA fisheries through the remainder of the year. The GMT evaluated changes to the trip limits for canary rockfish both north and south of 40°10′ N. lat. Table 2 shows the projected canary rockfish landings, the canary rockfish allocations, and the projected attainment percentage by fishery under both the current trip limits and the Council's recommended adjusted trip limits for north of 40°10′ N. lat. and Table 3 shows the same metrics for south of 40°10′ N. lat. These projections were based on the most recent catch information available through late August 2022.

Table 2—Projected Landings of Canary Rockfish, Canary Rockfish Allocation, and Projected Percentage of Canary Rockfish North of 40°10′ N. Lat. Attained Through the end of the Year by Trip Limit and Fishery
Fishery | Trip limits | Projected landings (round weight) (mt)
LE North of 40°10′ N. lat | Current: 3,000 lb/two months (1,361 kg) | 3.3
| Recommended: 4,000 lb/two months (1,814 kg) | 3.5
OA North of 40°10′ N. lat | Current: 1,000 lb/two months (454 kg) | 9.2
| Recommended: 2,000/two months (907 kg) | 11.1

Table 3—Projected Landings of Canary Rockfish, Canary Rockfish Allocation, and Projected Percentage of Canary Rockfish South of 40°10′ N. Lat. Attained Through the end of the Year by Trip Limit and Fishery
Fishery | Trip limits | Projected landings (round weight) (mt)
LE South of 40°10′ N. lat | Current: 3,500 lb/two months (1,588 kg) | 6.2
| Recommended: 4,000 lb/two months (1,814 kg) | 6.5
OA South of 40°10′ N. lat | Current: 1,500 lb/two months (680 kg) | 12.2
| Recommended: 2,000/two months (907 kg) | 13.8

Under the current trip limits, the model predicts catches of canary rockfish coastwide will total 30.9 mt (including discard mortality), which is 25 percent of the 2022 non-trawl commercial share of canary rockfish (123.5 mt). Under the Council's recommended trip limits, canary rockfish mortality is expected to increase to 35 mt coastwide (including discard mortality), which is 28 percent of the 2022 non-trawl commercial share of canary rockfish.

Trip limit increases for canary rockfish are intended to increase attainment of the non-trawl commercial share. The proposed trip limit increases do not change projected impacts to co-occurring rebuilding species compared to the impacts anticipated in the 2021-2022 harvest specifications because the projected impacts to those species assume that the entire canary rockfish ACL is harvested. Therefore, the Council recommended and NMFS is implementing, by modifying Table 2 North and South to part 660, subpart E, and Table 3 North and South to part 660, subpart F, trip limit changes for LE canary rockfish north and south of 40°10′ N lat. and trip limit changes for OA canary rockfish fishery north and south of 40°10′ N lat. as shown above in Tables 2 and 3. These changes will be implemented through the end of 2022.

Lingcod

Prior to the September 2022 meeting, the GMT also received a request to increase the lingcod trip limits north of 42° N lat. to reduce regulatory discarding and increase economic opportunity. Lingcod is managed with an ACL north of 40°10′ N lat. and an ACL south of 40°10′ N lat. The 2022 ACL for lingcod north of 40°10′ N lat. is 4,958 mt.

To evaluate potential increases to lingcod trip limits north of 42° N lat., the GMT made model-based landings projections under current regulations and alternative trip limits, including the limits ultimately recommended by the Council, for the LE and OA fisheries through the remainder of the year. Table 4 shows the projected lingcod landings, the lingcod allocations, and the projected attainment percentage by fishery under both the current trip limits and the Council's recommended adjusted trip limits for north of 42° N lat. These projections were based on the most recent catch information available through late August 2022.

Table 4—Projected Landings of Lingcod, Lingcod Allocation, and Projected Percentage of Lingcod North of 42° N lat. Attained Through the end of the Year by Trip Limit and Fishery
Fishery | Trip limits | Projected landings (round weight) (mt)
LE North of 42° N lat. | Current: 5,000 lb/two months (2,268 kg) | 182.76
OA North of 42° N lat. | Current: 2,500 lb/month (1,134 kg)
LE North of 42° N lat. | Recommended: 7,000 lb/two months (3,175 kg) | 188.76
OA North of 42° N lat. | Recommended: 3,500/month (1,588 kg)

Under the current trip limits, the model predicts catches of lingcod north of 42° N lat. will total 182.76 mt, which is 7.1 percent of the 2022 non-trawl allocation of lingcod (2,573.791 mt). Under the Council's recommended trip limits, lingcod mortality north of 42° N lat. is expected to increase to 188.76 mt, which is 7.3 percent of the 2022 non-trawl allocation of lingcod (2,573.791 mt).

Trip limit increases for lingcod are intended to marginally increase attainment of the non-trawl allocation. The proposed trip limit increases do not appreciably change projected impacts to co-occurring rebuilding species compared to the impacts anticipated in the 2021-2022 harvest specifications because the projected impacts to those species assume that the entire lingcod ACL is harvested. Therefore, the Council recommended and NMFS is implementing, by modifying Table 2 North to part 660, subpart E, and Table 3 North to part 660, subpart F, trip limit changes for LE and OA lingcod north of 42° N lat. as shown above in Table 4. These changes will be implemented through the end of 2022.

Classification

This final rule makes routine inseason adjustments to groundfish fishery management measures, based on the best scientific information available, consistent with the PCGFMP and its implementing regulations.

This action is taken under the authority of 50 CFR 660.60(c) and is exempt from review under Executive Order 12866.

The aggregate data upon which these actions are based are available for public inspection by contacting Keeley Kent in NMFS West Coast Region (see FOR FURTHER INFORMATION CONTACT, above), or view at the NMFS West Coast Groundfish website: https://www.fisheries.noaa.gov/species/west-coast-groundfish.

Pursuant to 5 U.S.C. 553(b), NMFS finds good cause to waive prior public notice and an opportunity for public comment on this action, as notice and comment would be impracticable and contrary to the public interest. The adjustments to management measures in this document increase trip limits for fisheries in Washington, Oregon, and California to allow additional economic opportunity while keeping catch within allocations established by the 2021-2022 harvest specifications. New information became available at the September 2022 Council meeting showing that updated 2022 catch projections using the most recent available data were lower than projections made during the harvest specifications process due to a combination of changing fishery conditions, and trip limit changes made during the 2021 fishing year. The trip limit increases are for the LE and OA sectors for sablefish north of 36° N lat., canary rockfish, and lingcod north of 42° N lat. These changes are projected to increase economic value of the fisheries by $283,335 for sablefish, $25,324 for canary, and $10,660 for lingcod as well as reduce regulatory discards in these fisheries. No aspect of this action is controversial, and changes of this nature were anticipated in the final rule for the 2021-2022 harvest specifications and management measures which published on December 11, 2020 (85 FR 79880).

Delaying implementation to allow for public comment would likely reduce the economic benefits to the commercial fishing industry and the businesses that rely on that industry because it is unlikely the new regulations would publish and could be implemented before the end of the calendar year. Therefore, providing a comment period for this action could significantly limit the economic benefits to the fishery, and would hamper the achievement of optimum yield from the affected fisheries.

Therefore, the NMFS finds reason to waive the 30-day delay in effectiveness pursuant to 5 U.S.C. 553(d)(1) so that this final rule may become effective upon publication in the Federal Register. The adjustments to management measures in this document affect commercial fisheries by increasing opportunity and allowing greater economic benefit. These adjustments were requested by the Council's advisory bodies, as well as members of industry during the Council's September 2022 meeting, and recommended unanimously by the Council. No aspect of this action is controversial, and changes of this nature were anticipated in the biennial harvest specifications and management measures established through a notice and comment rulemaking for 2021-2022 (85 FR 79880, December 11, 2020).

List of Subjects in 50 CFR Part 660

Fisheries, Fishing, and Indian Fisheries.

Authority: 16 U.S.C. 1801 et seq., 16 U.S.C. 773 et seq., and 16 U.S.C. 7001 et seq.

Dated: September 28, 2022.
Jennifer M. Wallace,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Revise Table 2 (North) to part 660, subpart E, to read as follows:

BILLING CODE 3510-22-P

3. Revise Table 2 (South) to part 660, subpart E, to read as follows:

4. Revise Table 3 (North) to part 660, subpart F, to read as follows:

5. Revise Table 3 (South) to part 660, subpart F, to read as follows:

[FR Doc. 2022-21409 Filed 9-30-22; 8:45 am]

BILLING CODE 3510-22-C